DEPARTMENT OF LABOR

Employment and Training Administration

[TA-W-56,708]

AVX Corporation, Subsidiary of Kyocera Corporation, Including On-Site Leased Workers of Express Personnel Services, Raleigh, NC; Notice of Revised Determination on Reconsideration of Alternative Trade Adjustment Assistance

By letter dated April 25, 2005, the United Steel Workers of America, Local 1028T requested administrative reconsideration regarding Alternative Trade Adjustment Assistance (ATAA) applicable to workers of the subject firm. The negative determination was signed on March 25, 2005, and amended on April 25, 2005, and will soon be published in the Federal Register.

The workers of AVX Corporation, subsidiary of Kyocera Corporation, including on-site leased workers of Express Personnel Services, Raleigh, North Carolina were certified eligible to apply for Trade Adjustment Assistance (TAA) on March 25, 2005.

The initial ATAA investigation determined that the skills of the subject worker group are easily transferable to other positions in the local area.

The petitioner provided additional information regarding the skills of the workers of the subject firm and the current situation in the electronics industry in the local area.

Upon further contacts with the company official it was confirmed that the skills of the workers at the subject firm are not easily transferable in the local commuting area.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

All workers of AVX Corporation, subsidiary of Kyocera Corporation, including on-site leased workers of Express Personnel Services, Raleigh, North Carolina, who became totally or partially separated from employment on or after March 8, 2004 through March 25, 2007, are eligible to apply for adjustment assistance under Section 223 of the Trade Act of 1974, and are also eligible to apply for alternative trade adjustment assistance under Section 246 of the Trade Act of 1974.

Signed in Washington, DC, this 29th day of April, 2005.
Elliott S. Kushner,
Certifying Officer, Division of Trade Adjustment Assistance.

[FR Doc. E5-2405 Filed 5-13-05; 8:45 am]

BILLING CODE 4510-30-P